DEPARTMENT OF LABOR

Employment and Training Administration

[Funding Opportunity Number SGA/DFA PY-11-13]

Notice of Availability of Funds and Solicitation for Grant Applications for Pay for Success Pilot Projects

SUMMARY: The Employment and Training Administration (ETA), U.S. Department of Labor, announces the availability of approximately $20 million in Pay for Success grants, funded out of the Workforce Innovation Fund in the Department of Labor Appropriations Act, 2012 (Pub. L. 112-74, Div. F, Tit. I). The Workforce Innovation Fund supports innovative approaches to the design and delivery of employment and training services that generate long-term improvements in the performance of the public workforce system, both in terms of positive results for job seekers and employers and cost-effectiveness. Grants awarded under this Solicitation for Grant Applications (SGA) will fund pilots of a Pay for Success model, an innovative funding strategy for achieving specific social service outcomes.

The complete SGA and any subsequent SGA amendments in connection with this solicitation are described in further detail on ETA's Web site at http://www.doleta.gov/grants/ or on http://www.grants.gov. The Web sites provide application information, eligibility requirements, review and selection procedures and other program requirements governing this solicitation.

DATES: The closing date for receipt of applications is December 11, 2012.

FOR FURTHER INFORMATION CONTACT: Linda Forman, Grants Management Specialist, Office of Grants Management, at (202) 693-3416.

Signed June 11, 2012 in Washington, DC.
Eric D. Luetkenhaus,
Grant Officer, Employment and Training Administration.

[FR Doc. 2012-14577 Filed 6-14-12; 8:45 am]

BILLING CODE 4510-FN-P